DEPARTMENT OF COMMERCE

National Oceanic and Atmospheric Administration

[I.D. 010600C] [A]

Notice of Decision and Availability of Decision Documents on the Issuance of Permits for Incidental Take of Threatened and Endangered Species

AGENCY: National Marine Fisheries Service (NMFS), National Oceanic and Atmospheric Administration, Commerce

ACTION: Notice of decision and availability of decision documents on the issuance of a permit (1232) for incidental takes of endangered and threatened species.

SUMMARY: This notice advises the public that a decision on the application for an incidental take permit by the State of Oregon Department of Fish and Wildlife (ODFW) and the State of Washington Department of Fish and Wildlife (WDFW), pursuant to section 10(a)(1)(B) of the Endangered Species Act of 1973 (ESA), has been made and that the decision documents are available upon request.

DATES: Permit 1232 was issued on March 15, 2000, subject to certain conditions set forth therein, and expires on December 31, 2000.

ADDRESSES: Requests for copies of the decision documents or any of the other associated documents should be directed to the Protected Resources Division (PRD), F/NWR3, NMFS, 525 NE Oregon Street, Suite 500, Portland, OR 97232-2737 (503-230-5400).

FOR FURTHER INFORMATION CONTACT: Robert Koch, Portland, OR (ph: 503-230-5424, fax: 503-230-5435, e-mail: robert.koch@noaa.gov).

SUPPLEMENTARY INFORMATION: The following species, evolutionary significant units (ESU's), and runs are covered in the permit:

Chinook salmon (Oncorhynchus tshawytscha): threatened Snake River (SnR) spring/summer, endangered upper Columbia River (UCR) spring.

Sockeye salmon (O. nerka): endangered SnR.

Steelhead (O. mykiss): endangered UCR.

Decision

Notice was published on February 3, 2000 (65 FR 5322) that ODFW and WDFW jointly applied for a section 10(a)(1)(B) permit for incidental takes of ESA-listed anadromous fish adults associated with otherwise lawful sport and commercial fisheries on non-listed species in the lower and middle Columbia River and its tributaries in the Pacific Northwest. ODFW and WDFW submitted a Conservation Plan with their permit application that describes measures designed to monitor, minimize, and mitigate the incidental taking of ESA-listed anadromous salmonids associated with some or all of the winter/spring/summer fisheries that are expected to occur during 2000. Specifically, this Conservation Plan and Permit cover only those species, ESU's, and runs identified above which occur primarily in Columbia River mainstem fisheries through July 2000. Incidental take of other listed species, ESU's and runs during the conduct of fall season fisheries (i.e., SnR fall chinook, SnR steelhead) are not authorized by this permit and will require a separate application from ODFW and WDFW.

NMFS' decision is to adopt the preferred alternative in the Conservation Plan together with the preferred alternative in the Environmental Assessment that was completed for this permit action and issue a permit with conditions authorizing incidental takes of the ESA-listed anadromous fish species. This decision is based on a thorough review of the alternatives and their environmental consequences. NMFS' conditions will ensure that the incidental takes of ESA-listed anadromous fish will not appreciably reduce the likelihood of the survival and recovery of the species in the wild. By adopting the preferred alternative in the Conservation Plan, with the Conservation Plan's stated assurances that ODFW and WDFW's mitigation program will be implemented, all practicable means to avoid or minimize harm have been adopted.

ODFW and WDFW requested incidental takes of threatened lower Columbia River (LCR) chinook salmon, threatened upper Willamette River (UWR) chinook salmon, threatened SnR steelhead, threatened middle Columbia River (MCR) steelhead, threatened LCR steelhead, and threatened UWR steelhead. Protective regulations are currently proposed for LCR and UWR chinook salmon (65 FR 169, January 3, 2000) and SnR, MCR, LCR, and UWR steelhead (64 FR 73479, December 30, 1999). NMFS did not act on that part of ODFW and WDFW's permit application. In the future, when NMFS promulgates final rules under section 4(d) of the ESA that will provide take prohibitions for threatened LCR chinook salmon, threatened UWR chinook salmon, threatened SnR steelhead, threatened MCR steelhead, threatened LCR steelhead, and threatened UWR steelhead, NMFS may amend the permit to include the authorization for incidental takes of these species as ODFW and WDFW requested in their application. Issuance of the permit does not presuppose the contents of the eventual protective regulations.

Rationale for Decision

The decision to issue the permit was made because the Conservation Plan proposed by ODFW and WDFW meets the statutory criteria for issuance of an incidental take permit under section 10 of the ESA. In issuing the permit, NMFS determined that ODFW and WDFW's Conservation Plan provides adequate mitigation measures to avoid, minimize, and/or compensate for the anticipated takes of ESA-listed anadromous fish.

The permit was granted only after NMFS determined that the permit was applied for in good faith, that all permit issuance criteria were met, including the requirement that granting the permit would not jeopardize the continued existence of the species, and that the permit is consistent with the purposes and policies set forth in the Endangered Species Act of 1973, as amended.

Dated: March 29, 2000.
Wanda L. Cain,
Chief, Endangered Species Division, Office of Protected Resources, National Marine Fisheries Service.

[FR Doc. 00-8250 Filed 4-3-00; 8:45 am]

BILLING CODE 3510-22-F